COMMITTEE FOR THE IMPLEMENTATION OF TEXTILE AGREEMENTS

Cancellation of Electronic Visa Information System (ELVIS) and Quota Reporting Requirements for Textiles and Textile Products Produced or Manufactured in the People's Republic of China and Exported prior to January 1, 2009

June 16, 2009.

AGENCY: Committee for the Implementation of Textile Agreements (CITA).

ACTION: Issuing a directive to the Commissioner, U.S. Customs and Border Protection canceling all previous directives concerning ELVIS and quota reporting requirements for China.

EFFECTIVE DATE: July 1, 2009.

FOR FURTHER INFORMATION CONTACT: Maria D'Andrea, Office of Textiles and Apparel, U.S. Department of Commerce, (202) 482-4058.

SUPPLEMENTARY INFORMATION:

Authority: Executive Order 11651 of March 3, 1972, as amended; Section 204 of the Agricultural Act of 1956, as amended (7 U.S.C. 1854).

Effective on July 1, 2009, the United States is terminating the ELVIS transmission requirement and quota reporting requirements for goods exported from China prior to January 1, 2009. In a notice and letter published in the Federal Register on December 10, 2008 (see 73 FR 75085), the United States canceled all previous directives concerning requirements for ELVIS transmissions effective for goods exported from China prior to January 1, 2009. This action is consistent with the terms of the bilateral agreement on textiles and apparel between the Governments of the United States of America and the People's Republic of China that was signed on November 8, 2005 (see 70 FR 74777).

In the letter below, CITA instructs U.S. Customs and Border Protection to cancel all requirements for ELVIS transmission and quota reporting for goods exported from China prior to January 1, 2009.

Maria D'Andrea,
Acting Chairman, Committee for the Implementation of Textile Agreements.

Committee for the Implementation of Textile Agreements

June 16, 2009.

Commissioner,

U.S. Customs and Border Protection, Washington, DC 20229.

Dear Commissioner: Effective on July 1, 2009, you are directed to cancel all requirements for ELVIS transmissions and quota reporting for goods exported from China prior to January 1, 2009.

The Committee for the Implementation of Textile Agreements has determined that this action falls within the foreign affairs exception to the rulemaking provisions of 5 U.S.C. 553(a)(1).

Sincerely,

Maria D'Andrea,

Acting Chairman, Committee for the Implementation of Textile Agreements.

[FR Doc. E9-14623 Filed 6-19-09; 8:45 am]

BILLING CODE 3510-DS